DEPARTMENT OF HEALTH AND HUMAN SERVICES

[Document Identifier: OS-4040-0012]

Agency Information Collection Request; 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before January 27, 2025.

ADDRESSES: Submit your comments sagal.musa@hhs.gov or by calling (202) 205-2634.

FOR FURTHER INFORMATION CONTACT: When submitting comments or requesting information, please include the document identifier 4040-0012-60D and project title for reference, to Sagal Musa, email: sagal.musa@hhs.gov, or call (202) 205-2634 the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: SF-270 Request for Advance or Reimbursement.

Type of Collection: Extension.

OMB No. 4040-0012.

Abstract: The SF-270 Request for Advance or Reimbursement is a federal form used by grant awardees to request funds either in advance or as reimbursement for project expenses. This IC expires on January 31, 2025. Grants.gov seeks a three-year clearance of these collections.

Annualized Burden Hour Table
Forms (if necessary) | Respondents (if necessary) | Number of respondents | Number of responses per respondents | Average burden per response | Total burden hours
SF-270 Request for Advance or Reimbursement | Grant Applicants | 100,000 | 1 | 1 | 100,000
Total |  | 100,000 | 1 | 1 | 100,000

Sherrette A. Funn,
Paperwork Reduction Act Reports Clearance Officer, Office of the Secretary.

[FR Doc. 2024-27721 Filed 11-26-24; 8:45 am]

BILLING CODE 4151-AE-P